U.S. SMALL BUSINESS ADMINISTRATION

[Declaration of Disaster #3371]

State of Oklahoma

As a result of the President's major disaster declaration on October 25, 2001, and a notice received from the Federal Emergency Management Agency on October 31, 2001, I find that Washita County in the State of Oklahoma constitutes a disaster area due to damages caused by severe storms, flooding and tornadoes occurring on October 9 and 10, 2001. Applications for loans for physical damage as a result of this disaster may be filed until the close of business on December 30, 2001 and for economic injury until the close of business on July 31, 2002 at the address listed below or other locally announced locations: U.S. Small Business Administration, Disaster Area 3 Office, 4400 Amon Carter Blvd., Suite 102, Fort Worth, TX 76155.

In addition, applications for economic injury loans from small businesses located in the following contiguous counties in Oklahoma may be filed until the specified date at the above location: Beckham, Caddo, Custer, Greer and Kiowa.

The interest rates are:

| Percent
For Physical Damage:
Homeowners with credit available elsewhere | 6.500
Homeowners without credit available elsewhere | 3.250
Businesses with credit available elsewhere | 8.000
Businesses and non-profit organizations without credit available elsewhere | 4.000
Others (including non-profit organizations) with credit available elsewhere | 6.375
For Economic Injury:
Businesses and small agricultural cooperatives without credit available elsewhere | 4.000

The number assigned to this disaster for physical damage is 337111. For economic injury the number is 9M9700.

(Catalog of Federal Domestic Assistance Program Nos. 59002 and 59008).

Dated: November 1, 2001.
Herbert L. Mitchell,
Associate Administrator, For Disaster Assistance.

[FR Doc. 01-27907 Filed 11-6-01; 8:45 am]

BILLING CODE 8025-01-P